FEDERAL COMMUNICATIONS COMMISSION

Federal Advisory Committee Act; Task Force on Optimal Public Safety Answering Point Architecture

AGENCY: Federal Communications Commission.

ACTION: Notice; of intent to establish.

SUMMARY: In accordance with the Federal Advisory Committee Act, the purpose of this notice is to announce that a Federal Advisory Committee, known as the “Task Force on Optimal Public Safety Answering Pont (PSAP) Architecture” (hereinafter “Task Force”), is being established.

FOR FURTHER INFORMATION CONTACT: David Furth, Federal Communications Commission (FCC), Public Safety and Homeland Security Bureau (PSHSB), 202-418-0632, email: david.furth@fcc.gov; Timothy May, FCC, PSHSB, 202-418-1463, email: timothy.may@fcc.gov.

SUPPLEMENTARY INFORMATION: On August 8, 2014, the Federal Communications Commission (FCC) adopted a Second Report and Order and Third Further Notice of Proposed Rulemaking in PS Docket No. 11-153 and PS Docket No. 10-255 (available at http://www.fcc.gov/document/fcc-adopts-text-911-rules), wherein it directed the FCC's Public Safety and Homeland Security Bureau to establish the task force. The Committee Management Secretariat, General Services Administration concurs with the establishment of the Task Force. There are approximately 6,800 PSAPs in operation across the nation. This large number of PSAPs potentially increases the costs and resources needed from the communications industry, public safety community, and state, local and tribal governments. Further, public safety communications systems are converting to Next Generation 911 (NG911) in the coming years, which may further add to the costs and resource requirements of the nation's PSAPs. In addition, a number of states continue to divert critical E911 funding from its intended purposes to unrelated functions. To address these issues, the Task Force shall examine the current structure and architecture of the nation's PSAPs in order to determine whether additional consolidation of PSAP facilities and architecture would promote greater efficiency of operations, safety of life, and cost containment, while retaining needed integration with local first responder dispatch and support. The duties of the Task Force will be to study and report findings and recommendations on the following issues, including optimal PSAP system and network configuration in terms of emergency communications efficiency, performance, and operations functionality; cost projections for conversion to and annual operation of PSAPs that incorporate such optimal system design; comparative cost projections for annual maintenance of all existing PSAPs annually and upgrading them to NG911; recommendations on ways to ensure states use E911 funding for their intended purpose; and whether states that divert E911 funds should be ineligible to participate on various FCC councils, committees, and working groups.

The Task Force will present its initial findings and recommendations to the Commission no later than April 30, 2015 unless such period is extended by consent of the Chairman of the Commission (or his designee).

Federal Communications Commission.
Marlene H. Dortch,
Secretary.

[FR Doc. 2014-27086 Filed 11-14-14; 8:45 am]

BILLING CODE 6712-01-P